DEPARTMENT OF AGRICULTURE

Forest Service

36 CFR Part 294

RIN 0596-AB77

Special Areas; Roadless Area Conservation: Delay of Effective Date

AGENCY: Forest Service, Department of Agriculture.

ACTION: Final rule; Delay of effective date.

SUMMARY: In accordance with the memorandum of January 20, 2001, from the Assistant to the President and Chief of Staff, entitled “Regulatory Review Plan,” published in the Federal Register on January 24, 2001, this action temporarily delays for 60 days the effective date of the rule entitled Special Areas; Roadless Area Conservation, published in the Federal Register on January 12, 2001, 66 FR 3244. That rule concerns the establishment of prohibitions on road construction, road reconstruction, and timber harvesting in inventoried roadless areas on National Forest System lands. To the extent that 5 U.S.C. section 553 applies to this action, it is exempt from notice and comment because it constitutes a rule of procedure under 5 U.S.C. section 553(b)(A). Alternatively, the Department's implementation of this rule without opportunity for public comment, effective immediately upon publication today in the Federal Register, is based on the good cause exceptions in 5 U.S.C. section 553(b)(B) and 553(d)(3). Seeking public comment is impracticable, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations. The imminence of the effective date is also good cause for making this rule effective immediately upon publication.

DATES: The effective date of the Special Areas; Roadless Area Conservation, published in the Federal Register on January 12, 2001, at 66 FR 3244, is delayed for 60 days, from March 13, 2001 to a new effective date of May 12, 2001.

FOR FURTHER INFORMATION CONTACT: Marian P. Connolly, Regulatory Officer, Department of Agriculture, Forest Service, P.O. Box 96090, Washington, DC 20090-6090, telephone (703) 605-4533.

Dated: January 29, 2001.
Ann M. Veneman,
Secretary.

[FR Doc. 01-2869 Filed 2-2-01; 8:45 am]

BILLING CODE 3410-11-M